DEPARTMENT OF ENERGY

[OE Docket No. PP-400]

Application for Presidential Permit; New England Clean Power Link Project

AGENCY: Office of Electricity Delivery and Energy Reliability, DOE.

ACTION: Notice of Application.

SUMMARY: Champlain VT, LLC, doing business as TDI-New England (TDI-NE), has applied for a Presidential permit to construct, operate, maintain, and connect an electric transmission line across the United States border with Canada.

DATES: Comments or motions to intervene must be submitted on or before August 8, 2014.

ADDRESSES: Comments or motions to intervene should be addressed as follows: Office of Electricity Delivery and Energy Reliability (OE-20), U.S. Department of Energy, 1000 Independence Avenue SW., Washington, DC 20585.

FOR FURTHER INFORMATION CONTACT: Christopher Lawrence (Program Office) at 202-586-5260 or via electronic mail at Christopher.Lawrence@hq.doe.gov, Katherine Konieczny (Program Attorney) at 202-586-0503.

SUPPLEMENTARY INFORMATION: The construction, operation, maintenance, and connection of facilities at the international border of the United States for the transmission of electric energy between the United States and a foreign country is prohibited in the absence of a Presidential permit issued pursuant to Executive Order (EO) 10485, as amended by EO 12038.

On May 20, 2014, TDI-NE., an entity principally based in Albany, New York, filed an application with the Office of Electricity Delivery and Energy Reliability of the Department of Energy (DOE) for a Presidential permit for the New England Clean Power Link Project. On June 23, 2014, TDI-NE filed supplemental information concerning its application. TDI-New England would own and operate the transmission facilities with functional control being turned over to the Independent System Operator of New England once the project is in service.

TDI-NE proposes to construct, operate and maintain the New England Clean Power Link Project (NECPL), a high voltage direct current (HVDC) electric transmission line with an operating voltage of +/− 300 to 320 kilovolts (kV). The project would be constructed in both aquatic (underwater) and terrestrial (underground) environments.

As proposed, NECPL is a high voltage direct current (HVDC) electric transmission line with an expected power transfer rating of 1000 megawatts (MW). The proposed project would originate in the Canadian province of Quebec and terminate in Ludlow, Vermont. From the Canadian border, the line would be located underground in Alburgh, Vermont for approximately 0.5 miles and would enter Lake Champlain via a horizontal directional drill. The cables would then be installed in Lake Champlain, within the jurisdictional waters of Vermont for 97.6 miles. The cables would emerge from Lake Champlain in the town of Benson, Vermont and would be buried along town roads and state highway rights-of-way for approximately 55.7 miles until terminating at a proposed converter station in Ludlow, Vermont. The total direct current portion of the project is approximately 153.8 miles. The project would also involve the construction of a single circuit 345 kilovolt (kV) underground high voltage alternating current (AC) transmission system which would run approximately 0.3 miles from the converter station in Ludlow to the Coolidge Substation located in the towns of Ludlow and Cavendish, Vermont. The total length of the proposed project from the U.S. border crossing in Alburgh to the Coolidge substation is approximately 154.1 miles.

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the Federal Power Act and articulated in Federal Energy Regulatory Commission (FERC) Order No. 888 (Promoting Wholesale Competition Through Open Access Non-Discriminatory Transmission Services by Public Utilities; FERC Stats. & Regs. ¶31,036 (1996)), as amended. In furtherance of this policy, DOE invites comments on whether it would be appropriate to condition any Presidential permit issued in this proceeding on compliance with these open access principles.

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: Mr. Donald Jessome, General Manager, TDI-New England, P.O. Box 155, Charlotte, VT 05445, Donald.Jessome@chvtllc.com.

Before a Presidential permit may be issued or amended, DOE must determine that the proposed action is in the public interest. In making that determination, DOE considers the environmental impacts of the proposed project pursuant to the National Environmental Policy Act of 1969, determines the project's impact on electric reliability by ascertaining whether the proposed project would adversely affect the operation of the U.S. electric power supply system under normal and contingency conditions, and any other factors that DOE may also consider relevant to the public interest. Also, DOE must obtain the concurrences of the Secretary of State and the Secretary of Defense before taking final action on a Presidential permit application.

Copies of this application will be made available, upon request, for public inspection and copying at the address provided above, by accessing the program Web site at http://energy.gov/oe/services/electricity-policy-coordination-and-implementation/international-electricity-regulatio-2.

Issued in Washington, DC, on July 2, 2014.
Christopher A. Lawrence,
Electricity Policy Analyst, National Electricity Delivery Division, Office of Electricity Delivery and Energy Reliability.

[FR Doc. 2014-16106 Filed 7-8-14; 8:45 am]

BILLING CODE 6450-01-P